INTERNATIONAL TRADE COMMISSION

[Investigation No. 337-TA-915]

Certain Set-Top Boxes, Gateways, Bridges, and Adapters and Components Thereof; Commission Determination Not To Review an Initial Determination Granting Complainants' Unopposed Motion To Terminate the Investigation on the Basis of Settlement; Termination of Investigation

AGENCY: U.S. International Trade Commission.

ACTION: Notice.

SUMMARY: Notice is hereby given that the U.S. International Trade Commission has determined not to review the presiding administrative law judge's (“ALJ”) initial determination (“ID”) (Order No. 17) granting the unopposed motion of complainants ViXS Systems, Inc., of Toronto, Ontario, Canada and ViXS USA, Inc. of Austin, Texas (collectively “ViXS”) to terminate the above-referenced investigation as to respondent Entropic Communications, Inc. of San Diego, California (“Entropic”) on the basis of a settlement agreement. The investigation is terminated.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 21, 2014, based on a Complaint filed by ViXS, as supplemented and amended. 79 FR 29204 (May 21, 2014). The Complaint alleges violations of section 337 of the Tariff Act of 1930, as amended, 19 U.S.C. 1337 (“section 337”), in the importation into the United States, the sale for importation, and the sale within the United States after importation of certain set-top boxes, gateways, bridges, and adapters and components thereof by reason of infringement of certain claims of U.S. Patent Nos. 7,301,900; 7,099,951; 7,200,855; and 7,406,598. The Complaint further alleges the existence of a domestic industry. The Commission's Notice of Investigation named as respondents Entropic; DirectTV, LLC of El Segundo, California (“DirectTV”); Wistron NeWeb Corporation of Hsinchu, Taiwan and Winstron Corporation of Taipei Hsien, Taiwan (collectively “Wistron”); and CyberTAN Technology, Inc. of Hsinchu, Taiwan (“CyberTAN”). The Office of Unfair Import Investigations was also named as a party to the investigation.

The Commission later terminated the investigation with respect to certain asserted claims of the patents-in-suit, thus limiting the investigation to products incorporating Entropic chips and, in effect, terminating the investigation with respect to respondents DirectTV, Wistron, and CyberTAN. Notice (Aug. 25, 2014); Order No. 9 (Aug. 15, 2014).

On September 15, 2014, ViXS filed a motion to terminate this investigation based on a settlement agreement between ViXS and Entropic. The motion stated that the respondents do not oppose the motion. On September 29, 2014, the Commission investigative attorney (Mr. Taylor) filed a response in support of the motion.

On October 7, 2014, the ALJ issued the subject ID granting ViXS's motion for termination of the investigation. The ALJ found that the joint motion complied with the requirements of section 210.21(b)(1) of the Commission's Rules of Practice and Procedure (19 CFR 210.21(b)(1)) and that there are no extraordinary circumstances that would prevent the requested terminations. The ALJ also found that granting the motion would not be contrary to the public interest.

No petitions for review of the subject ID were filed.

The Commission has determined not to review the ID.

The authority for the Commission's determination is contained in section 337 of the Tariff Act of 1930, as amended (19 U.S.C. 1337), and in Part 210 of the Commission's Rules of Practice and Procedure (19 CFR Part 210).

Issued: October 30, 2014.
By order of the Commission.
Lisa R. Barton,
Secretary to the Commission.

[FR Doc. 2014-26158 Filed 11-3-14; 8:45 am]

BILLING CODE 7020-02-P